DEPARTMENT OF COMMERCE

National Oceanic and Atmospheric Administration

RIN 0648-XC103

Endangered and Threatened Species; Take of Anadromous Fish

AGENCY: National Marine Fisheries Service (NMFS), National Oceanic and Atmospheric Administration (NOAA), Commerce.

ACTION: Notice of availability and request for comment.

SUMMARY: Notice is hereby given that NMFS has prepared a draft Environmental Assessment (EA) under the National Environmental Policy Act (NEPA) of the potential effects of two direct take permits for hatchery operations in the Snake River basin involving Snake River fall Chinook salmon. The permit applicants are the Washington Department of Fish and Wildlife (WDFW), Idaho Department of Fish and Game, and the Bureau of Indian Affairs (BIA) on behalf of the Nez Perce Tribe (NPT). The proposed permits would expire on December 31, 2017. This document serves to notify the public of the draft EA for public review, comment, and submission of written data, views, arguments or other relevant information before a final decision on whether to issue a Finding of No Significant Impact is made by NMFS. All comments and other information received will become part of the public record and will be available for review pursuant to section 10(c) of the Endangered Species Act (ESA).

DATES: Comments and other submissions must be received at the appropriate address or fax number (see ADDRESSES) no later than 5 p.m. Pacific time on July 27, 2012.

ADDRESSES: Written responses to the environmental assessment should be sent to Brett Farman, National Marine Fisheries Services, Salmon Management Division, 1201 NE. Lloyd Boulevard, Suite 1100, Portland, OR 97232. Comments may also be submitted by email to: SnakeFallEA.nwr@noaa.gov. Include in the subject line of the email comment the following identifier: Comments on Snake Fall Chinook Hatchery Assessment. Comments may also be sent via facsimile (fax) to (503) 872-2737. Requests for copies of the draft environmental assessment should be directed to the National Marine Fisheries Services, Salmon Management Division, 1201 N.E. Lloyd Boulevard, Suite 1100, Portland, OR 97232. Comments received will also be available for public inspection, by appointment, during normal business hours by calling (503) 230-5418.

FOR FURTHER INFORMATION CONTACT: Brett Farman at (503) 231-6222 or email: brett.farman@noaa.gov.

SUPPLEMENTARY INFORMATION:

Species Covered in This Notice

Chinook salmon (Oncorhynchus tshawytscha): Threatened, naturally produced and artificially propagated Snake River fall-run.

Background

Section 9 of the ESA and Federal regulations prohibit the “taking” of a species listed as endangered or threatened. The term “take” is defined under the ESA to mean harass, harm, pursue, hunt, shoot, wound, kill, trap, capture, or collect, or to attempt to engage in any such conduct. NMFS may issue permits to take listed species for any act otherwise prohibited by section 9 for scientific purposes or to enhance the propagation or survival of the affected species, under section 10(a)(1)(A) of the ESA. NMFS regulations governing permits for threatened and endangered species are promulgated at 50 CFR 222.307.

The proposed action is to issue the two section 10(a)(1)(A) direct take permits. The receipt of the applications for the permits was previously noticed (76 FR 43986, July 22, 2011), and comments were invited. Hatchery operations to be permitted would be carried out at the Nez Perce Tribal Hatchery, and at Lyons Ferry, Oxbow, and Irrigon Hatcheries, and associated facilities. The purpose of these programs is to mitigate for losses of Snake River fall Chinook salmon caused by the four lower Snake River dams, the Federal Columbia River Power System, and the Hells Canyon dam complex.

Authority

NEPA requires Federal agencies to conduct an environmental analysis of their proposed actions to determine if the actions may affect the human environment. NMFS expects to take action on two ESA section 10(a)(1)(A) permits. Therefore, NMFS is seeking public input on the scope of the required NEPA analysis, including the range of reasonable alternatives and associated impacts of any alternatives.

Dated: July 9, 2012.
Angela Somma,
Chief, Endangered Species Division, Office of Protected Resources, National Marine Fisheries Service.

[FR Doc. 2012-17052 Filed 7-11-12; 8:45 am]

BILLING CODE 3510-22-P